DEPARTMENT OF HEALTH AND HUMAN SERVICES

National Institutes of Health

National Institute of Diabetes and Digestive and Kidney Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel, ZDK1 GRB-7 (M5) M.

Date: May 4, 2000.

Time: 3 p.m. to 4:30 p.m.

Agenda: To review and evaluate grant applications.

Place: National Institutes of Health, NIDDK/DEA/Review Branch, 2 Democracy Boulevard, 6707 Democracy Boulevard, MSC 5452, Room# 659, Bethesda, MD 20892, (Telephone Conference Call).

Contact Person: Lakshmanan Sankaran, PhD., Scientific Review Administration, Review Branch, DEA, NIDDK, Room 659, 6707, Democracy Boulevard, National Institutes of Health, Bethesda, MD 20892-6600 (301) 594-7799.

This notice is being published less than 15 days prior to the meeting due to the timing limitations imposed by the review and funding cycle.

Name of Committee: National Institute of Diabetes and Digestive and Kidney Diseases Special Emphasis Panel, ZDK1 GRB-1 (M5).

Date: May 10, 2000.

Time: 10:30 a.m. to 12 p.m.

Agenda: To review and evaluate grant applications.

Place: 6707 Democracy Blv, Two Democracy Plaza, 6th Floor, Room 641, MSC 5452, Bethesda, MD 20892, (Telephone Conference Call).

Contact Person: Carolyn Miles, PhD., Scientific Review Administration, Review Branch, DEA, NIDDK, Room 641, 6707, Democracy Boulevard, National Institutes of Health, Bethesda, MD 20892, (301) 594-7791.

This notice is being published less than 15 days prior to the meeting due to the timing limitations imposed by the review and funding cycle.

(Catalogue of Federal Domestic Assistance Program Nos. 93.847, Diabetes, Endocrinology and Metabolic Research; 93.848, Digestive Diseases and Nutrition Research; 93.849, Kidney Diseases, Urology and Hematology Research, National Institutes of Health, HHS)

Dated: April 28, 2000.
Anna Snouffer,
Acting Director, Office of Federal Advisory Committee Policy.

[FR Doc. 00-11211 Filed 5-4-00; 8:45 am]

BILLING CODE 4140-01-M